DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda), including its Regulatory Plan (Plan), pursuant to Executive Order 12866 “Regulatory Planning and Review,” and the Regulatory Flexibility Act.

SUPPLEMENTARY INFORMATION: The Agenda is a Governmentwide compilation of upcoming and ongoing regulatory activity, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire fall 2011 Agenda can be accessed online by going to: www.reginfo.gov. Agenda entries reflect the status of activities as of approximately November 30, 2011.

Publication in the Federal Register is mandated by the Regulatory Flexibility Act (5 U.S.C. 602) only for Agenda entries that require either a regulatory flexibility analysis or periodic review under section 610 of that Act. DOE's regulatory flexibility agenda is made up of six rulemakings setting energy efficiency standards for the following products:

Fluorescent lamp ballasts

Battery chargers and external power supplies

Walk-in coolers and freezers

Residential clothes washers

Residential furnace, central air conditioners and heat pumps

ER, BR and small-diameter incandescent reflector lamps

The Plan appears in both the online Agenda and the Federal Register and includes the most important of DOE's significant regulatory actions and a Statement of Regulatory and Deregulatory Priorities.

Issued in Washington, DC, on September 22, 2011.
Sean Lev,
Acting General Counsel.

Energy Efficiency and Renewable Energy—Proposed Rule Stage
Sequence No. | Title | Regulation Identifier No.
315 | Energy Efficiency Standards for Battery Chargers and External Power Supplies (Reg Plan Seq No. 27) | 1904-AB57
316 | Energy Conservation Standards for Walk-In Coolers and Walk-In Freezers (Reg Plan Seq No. 28) | 1904-AB86
317 | Energy Conservation Standards for ER, BR, and Small Diameter Incandescent Reflector Lamps (Reg Plan Seq No. 30) | 1904-AC15
References in boldface appear in The Regulatory Plan in part II of this issue of the Federal Register.

Energy Efficiency and Renewable Energy—Final Rule Stage
Sequence No. | Title | Regulation Identifier No.
318 | Energy Efficiency Standards for Fluorescent Lamp Ballasts (Reg Plan Seq No. 31) | 1904-AB50
319 | Energy Conservation Standards for Residential Clothes Washers | 1904-AB90
References in boldface appear in The Regulatory Plan in part II of this issue of the Federal Register.

Energy Efficiency and Renewable Energy—Completed Actions
Sequence No. | Title | Regulation Identifier No.
320 | Energy Efficiency Standards for Residential Furnace, Central Air Conditioners and Heat Pumps | 1904-AC06

DEPARTMENT OF ENERGY (DOE)

Energy Efficiency and Renewable Energy (EE)

Proposed Rule Stage

315. Energy Efficiency Standards for Battery Chargers and External Power Supplies

Regulatory Plan: This entry is Seq. No. 27 in part II of this issue of the Federal Register.

RIN: 1904-AB57

316. Energy Conservation Standards for Walk-In Coolers and Walk-In Freezers

Regulatory Plan: This entry is Seq. No. 28 in part II of this issue of the Federal Register.

RIN: 1904-AB86

317. Energy Conservation Standards for ER, BR, and Small Diameter Incandescent Reflector Lamps

Regulatory Plan: This entry is Seq. No. 30 in part II of this issue of the Federal Register.

RIN: 1904-AC15

DEPARTMENT OF ENERGY (DOE)

Energy Efficiency and Renewable Energy (EE)

Final Rule Stage

318. Energy Efficiency Standards for Fluorescent Lamp Ballasts

Regulatory Plan: This entry is Seq. No. 31 in part II of this issue of the Federal Register.

RIN: 1904-AB50

319. Energy Conservation Standards for Residential Clothes Washers

Legal Authority: 42 U.S.C. 6295(g)(9)

Abstract: This rulemaking will implement a provision in the Energy Independence and Security Act of 2007 that amended the Energy Policy and Conservation Act to require the Secretary of Energy to publish by December 31, 2011, a final rule determining whether amended energy conservation standards should apply to clothes washers manufactured on or after January 1, 2015.

Timetable:

Action | Date | FR Cite
Notice: Public Meeting, Framework Document Availability | 08/28/09 | 74 FR 44306
Comment Period End | 09/20/09 |
Direct Final Rule | 12/00/11

Regulatory Flexibility Analysis Required: Yes.

Agency Contact: Stephen Witkowski, Office of Building Technologies Program, EE-2J, Department of Energy, Energy Efficiency and Renewable Energy, 1000 Independence Avenue SW., Washington, DC 20585.

Phone: 202 586-7463, Email: stephen.witkowski@ee.doe.gov.

RIN: 1904-AB90

DEPARTMENT OF ENERGY (DOE)

Energy Efficiency and Renewable Energy (EE)

Completed Actions

320. Energy Efficiency Standards for Residential Furnace, Central Air Conditioners and Heat Pumps

Legal Authority: 42 U.S.C. 6295(f); 42 U.S.C. 6295(d)

Abstract: DOE published an energy conservation standard final rule for residential furnaces and boilers in the Federal Register on November 19, 2007 (72 FR 65136). Petitioners challenged this final rule on several grounds. DOE filed a motion for voluntary remand to allow the agency to consider: (1) The application of regional standards in additional to national standards for furnaces, authorized by Energy Independence and Security Act of 2007 (enacted Dec. 19, 2007) and (2) the effect of alternative standards on natural gas prices. This motion for voluntary remand was granted on April 21, 2009. DOE initiated this rulemaking to consider amended energy conservation standards for residential furnaces. In this rulemaking DOE is also reviewing and updating energy efficiency standards, as required by the Energy Policy and Conservation Act, to reflect technological advances. All amended standards must be technologically feasible and economically justified. This is the second review of the statutory standards for residential central air conditioners and air conditioning heat pumps.

Completed:

Reason | Date | FR Cite
NPRM | 06/27/11 | 76 FR 37549
Direct Final Rule | 06/27/11 | 76 FR 37408
Direct Final Rule Comment Period End | 10/17/11
Direct Final Rule Effective | 10/25/11
Final Action | 10/31/11 | 76 FR 67037

Regulatory Flexibility Analysis Required: Yes.

Agency Contact: Mohammed Khan, Phone: 202 586-7892, Email: mohammed.khan@ee.doe.gov

Wes Anderson, Phone: 202 586-7335, Email: wes.anderson@ee.doe.gov.

RIN: 1904-AC06

[FR Doc. 2012-1646 Filed 2-10-12; 8:45 am]

BILLING CODE 6450-01-P